DEPARTMENT OF COMMERCE

National Oceanic and Atmospheric Administration

50 CFR Part 660

[Docket No. 040830250-5062-03; I.D. 081304C]

RIN 0648-AS27

Magnuson-Stevens Act Provisions; Fisheries Off West Coast States and in the Western Pacific; Pacific Coast Groundfish Fishery; Biennial Specifications and Management Measures; Correction

AGENCY: National Marine Fisheries Service (NMFS), National Oceanic and Atmospheric Administration (NOAA), Commerce.

ACTION: Correcting amendment

SUMMARY: This document contains corrections to the final regulations that were published in the Federal Register on Thursday, December 23, 2004. These regulations implemented the 2005-2006 fishery specifications and management measures for groundfish taken in the U.S. exclusive economic zone off the coasts of Washington, Oregon, and California.

DATES: Effective on March 18, 2005.

FOR FURTHER INFORMATION CONTACT: Yvonne deReynier (Northwest Region, NMFS), phone: 206-526-6129; fax: 206-526-6736 and; e-mail: yvonne.dereynier@noaa.gov.

SUPPLEMENTARY INFORMATION:

Electronic Access

This correcting notice also is accessible via the Internet at the Office of the Federal Register's website at http://www.gpoaccess.gov/fr/index.html. Background information and documents are available at the NMFS Northwest Region website http://www.nwr.noaa.govlsustfsh/gdfsh01.htm and at the Council's website at http://www.pcouncil.org.

Background

The final regulations that are the subject of these corrections revised portions of 50 CFR 660.302 through 660.373 and added §§ 660.380 through 660.394. These regulations affect persons operating fisheries for groundfish species off the U.S. West Coast.

Need for Correction

As published, the final regulations contain errors that may prove to be misleading to the public and which need to be corrected. This action provides six corrections to the final regulations, all of which are either corrections of spelling mistakes, grammar mistakes, or to mis-numbered paragraphs.

Classification

The Assistant Administrator for Fisheries, NOAA, finds good cause to waive the requirement to provide prior notice and opportunity for public comment on this action pursuant to 5 U.S.C. 553(b)(3)(B), because providing prior notice and opportunity for comment would be unnecessary and because all of the changes are non-substantive. Two of the corrections provided in this document correctly re-number misdesignated paragraphs within the Code of Federal Regulations. Re-numbering these misdesignated paragraphs has no effect on the public except to eliminate any confusion that may have resulted from the mis-designated paragraphs. One correction is to remove the word “and” from within a long list of latitude/longitude coordinates and to then place that word “and” after the penultimate coordinate in that same list. This correction has no effect on the public except to eliminate any confusion that may have occurred over the mis-placement of that word. Two corrections are to correct mis-spellings of the words “Hexagrammos,” “management,” and “fishery” in Federal regulations, which also has no effect on the public except to eliminate any confusion that may have resulted from the incorrect spellings of these words. Therefore, it is unnecessary to provide prior notice and opportunity for public comment on these corrections.

Pursuant to 5 U.S.C. 553(d), this non-substantive rule is not subject to a 30 day delay in effectiveness.

List of Subjects in 50 CFR Part 660

Administrative practice and procedure, American Samoa, Fisheries, Fishing, Guam, Hawaiian Natives, Indians, Northern Mariana Islands, Reporting and recordkeeping requirements.

Dated: March 14, 2005.
Rebecca Lent,
Deputy Assistant Administrator for Regulatory Programs, National Marine Fisheries Service.

Accordingly, 50 CFR part 660 is corrected by making the following correcting amendments:

PART 660—FISHERIES OFF WEST COAST STATES AND IN THE WESTERN PACIFIC

1. The authority citation for part 660 continues to read as follows:

Authority: 16 U.S.C. 1801 et seq.

2. In § 660.302, in the definition for “North-South management area,” the second paragraph (1)(i) and paragraphs (1)(ii) through (iv) are correctly redesignated as paragraphs (1)(ii) through (v) and republished to read as follows:

§ 660.302 Definitions.

North-South management area * * *

(1) * * *

(ii) Columbia. (A) The northern limit is 47°30′ N. lat.

(B) The southern limit is 43°00′ N. lat.

(iii) Eureka. (A) The northern limit is 43°00′ N. lat.

(B) The southern limit is 40°30′ N. lat.

(iv) Monterey. (A) The northern limit is 40°30′ N. lat.

(B) The southern limit is 36°00′ N. lat.

(v) Conception. (A) The northern limit is 36°00′ N. lat.

(B) The southern limit is the U.S.-Mexico International Boundary, which is a line connecting the following coordinates in the order listed:

Point | N. Lat. | W. Long.
1 | 32°35.37′ | 117°27.82′
2 | 32°37.62′ | 117°49.52′
3 | 31°07.97′ | 118°36.30′
4 | 30°32.52′ | 121°51.97′

§ 660.373 [Corrected]

3. In § 660.373, amend paragraph (b)(4) so that the words “managmenet” and “fishey” are correctly spelled as “management and “fishery,” respectively.

§ 660.384 [Corrected]

4. In § 660.384, amend paragraph (c)(3) so that the references to “Hexogrammos” or “Hexogrammas” in the introductory text and in (c)(3)(i)(B) are correctly spelled as “Hexagrammos.”

§ 660.393 [Corrected]

5. In § 660.393, redesignate paragraphs (i) and (j) as (j) and (k), respectively, and redesignate the second occurrence of paragraph (h) as paragragh (i).

6. In § 660.394, revise paragraph (m)(149) through (164) to read as follows:

§ 660.394 Latitude/longitude coordinates defining the 180-fm (329-m) through 250-fm (457-m) depth contours.

(m) * * *

(149) 38°46.81′ N. lat., 123°51.49′ W. long.;

(150) 38°45.28′ N. lat., 123°51.55′ W. long.;

(151) 38°42.76′ N. lat., 123°49.73′ W. long.;

(152) 38°41.53′ N. lat., 123°47.80′ W. long.;

(153) 38°41.41′ N. lat., 123°46.74′ W. long.;

(154) 38°38.01′ N. lat., 123°45.74′ W. long.;

(155) 38°37.19′ N. lat., 123°43.98′ W. long.;

(156) 38°35.26′ N. lat., 123°41.99′ W. long.;

(157) 38°33.38′ N. lat., 123°41.76′ W. long.;

(158) 38°19.95′ N. lat., 123°32.90′ W. long.;

(159) 38°14.38′ N. lat., 123°25.51′ W. long.;

(160) 38°09.39′ N. lat., 123°24.39′ W. long.;

(161) 38°10.09′ N. lat., 123°27.21′ W. long.;

(162) 38°03.76′ N. lat., 123°31.90′ W. long.;

(163) 38°02.06′ N. lat., 123°31.26′ W. long.; and

(164) 38°00.00′ N. lat., 123°29.56′ W. long.

[FR Doc. 05-5350 Filed 3-17-05; 8:45 am]

BILLING CODE 3510-22-S